DEPARTMENT OF HEALTH AND HUMAN SERVICES

Health Resources and Services Administration

Notice of Filing of Annual Report of Federal Advisory Committee

Notice is hereby given that pursuant to section 13 of Public Law 92-463, the fiscal year 2003 annual report for the following Health Resources and Services Administration's (HRSA) Federal advisory committee has been filed with the Library of Congress: Health Professions and Nurse Education Special Emphasis Panel.

Copies are available to the public for inspection at the Library of Congress, Newspaper and Current Periodical Reading Room in the James Madison Memorial Building, Room LM-133 (entrance on Independence Avenue, between First and Second Streets, SE., Washington, DC).

Copies may be obtained from: Ms. Wilma Johnson, Deputy Director, Division of Independent Review, Office of Management and Program Support, HRSA, Parklawn Building, Room 11A-22, 5600 Fishers Lane, Rockville, Maryland 20857, Telephone (301) 443-3019.

Dated: December 19, 2003.
Tina M. Cheatham,
Acting Director, Division of Policy Review and Coordination.

[FR Doc. 03-31772 Filed 12-23-03; 8:45 am]

BILLING CODE 4165-15-P